ENVIRONMENTAL PROTECTION AGENCY

[FRL-9812-6]

Workshop To Review Initial Draft Materials for the Nitrogen Oxides (NOX) Integrated Science Assessment (ISA) for Health Effects

AGENCY: Environmental Protection Agency (EPA).

ACTION: Notice of Workshop.

SUMMARY: As part of the review of the air quality criteria for nitrogen oxides (NOX) and primary (health-based) National Ambient Air Quality Standards (NAAQS) for nitrogen dioxide (NO2), EPA is announcing a workshop to evaluate preliminary draft materials that will inform the development of the NOX Integrated Science Assessment (ISA) for health effects. The workshop is being organized by EPA's National Center for Environmental Assessment (NCEA) within the Office of Research and Development and will be held on June 11, 2013, in Research Triangle Park, North Carolina and will be open to attendance by interested public observers on a first-come, first-served basis up to the limits of available space.

DATES: The workshop will be held on June 11, 2013, beginning at 9:30 a.m. and ending at 5:00 p.m.

ADDRESSES: The workshop will be held in the auditorium of EPA's main campus, 109 T.W. Alexander Drive, Research Triangle Park, North Carolina.

FOR FURTHER INFORMATION CONTACT: Questions regarding information, registration, and logistics for the workshop should be directed to Ms. Brianna Young, telephone: 919-541-9765; facsimile: 919-541-1818; email: young.brianna@epa.gov. Questions regarding the scientific and technical aspects of the workshop should be directed to Dr. Molini Patel, telephone: 919-541-1492; facsimile: 919-541-1818; email: patel.molini@epa.gov.

SUPPLEMENTARY INFORMATION:

I. Summary of Information About the Workshop

Section 109(d) of the Clean Air Act (CAA) requires the U.S. EPA to conduct periodic reviews of the air quality criteria for each air pollutant listed under section 108 of the Act. Based on such reviews, EPA is to retain or revise the NAAQS for a given pollutant as appropriate. As part of these reviews, NCEA assesses newly available scientific information and develops ISA documents (formerly known as Air Quality Criteria Documents) that provide the scientific basis for the reviews of the NAAQS.

NCEA-Research Triangle Park is holding this workshop to inform the Agency's evaluation of the scientific evidence for the review of the primary NAAQS for NO2. Section 109(b)(1) of the CAA defines primary NAAQS as standards, “the attainment and maintenance of which in the judgment of the Administrator, based on such criteria and allowing an adequate margin of safety, are requisite to protect the public health.” EPA intends to develop a separate ISA, and NAAQS review, for the secondary (welfare-based) NAAQS for NO2, in conjunction with a review of the secondary NAAQS for sulfur dioxide. The purpose of the workshop is to obtain review of the scientific content of preliminary draft materials that will inform the development of the draft health effects ISA. Workshop sessions will include review and discussion of preliminary draft materials on the atmospheric chemistry of and human exposure to NOX as well as health effects evidence from in vivo and in vitro animal toxicology, human clinical, and epidemiology studies. In addition, roundtable discussions will help identify key studies or concepts within each discipline to assist EPA in integrating relevant literature within and across disciplines. These preliminary materials are not being released as an external draft but will be used to guide workshop discussions and inform the development of the draft health effects ISA. This workshop is planned to help ensure that the ISA, once developed, is up-to-date and focuses on the key evidence to inform the scientific understanding for the review of the primary NAAQS for NOX. EPA is planning to release the first external review draft health effects ISA for NOX for review by the Clean Air Scientific Advisory Committee and the public in August 2013.

II. Workshop Information

Members of the public may attend the workshop as observers. Space is limited, and reservations will be accepted on a first-come, first-served basis.

Dated: March 1, 2013.
Debra B. Walsh,
Acting Director, National Center for Environmental Assessment.

[FR Doc. 2013-11198 Filed 5-9-13; 8:45 am]

BILLING CODE 6560-50-P